DEPARTMENT OF COMMERCE

Foreign-Trade Zones Board

[Docket T-1-2005]

Foreign-Trade Zone 61—San Juan, PR, Application for Temporary/Interim Manufacturing Authority, Shell Chemicals Yabucoa, Inc. (Petrochemical Complex), Yabucoa, PR

An application has been submitted to the Executive Secretary of the Foreign-Trade Zones Board (the Board) by the Puerto Rico Trade and Exports Company, grantee of FTZ 61, requesting temporary/interim manufacturing (T/IM) authority within Subzone 61I at the Shell Chemicals Yabucoa, Inc. (Shell) petrochemical plant, located in Yabucoa, Puerto Rico. The application was filed on February 11, 2005.

The Shell facility (192 employees, 76,000 BPD capacity) is located within Subzone 61I. Under T/IM procedures, the company has requested authority to produce sulfur, distillate fuels, liquid petroleum gas and petroleum gas (HTS 2503.00, 2710.19, 2711.14, 2711.19 and 2711.29, duty rate ranges from duty-free to 10.5¢/barrel). The company will source crude oil (HTS 2709.00, duty rate of 5.25¢ or 10.5¢/barrel) from abroad. T/IM authority could be granted for a period of up to two years. Shell has also submitted a request for permanent FTZ manufacturing authority (see Docket 8-2005), which includes additional products and feedstocks.

FTZ procedures for would exempt Shell from customs duty payments on the foreign components used in export production. The company anticipates that some 37 percent of the facility's shipments will be exported. On its domestic sales, the company would be able to choose the customs duty rates for certain petrochemical feedstocks by admitting foreign crude oil in non-privileged foreign status.

Public comment is invited from interested parties. Submissions shall be addressed to the Board's Executive Secretary at one of the following addresses:

1. Submissions via Express/Package Delivery Services: Foreign-Trade-Zones Board, U.S. Department of Commerce, Franklin Court Building—Suite 4100W, 1099 14th Street, NW., Washington, DC 20005; or

2. Submissions via the U.S. Postal Service: Foreign-Trade-Zones Board, U.S. Department of Commerce, FCB—Suite 4100W, 1401 Constitution Avenue, NW., Washington, DC 20230.

The closing period for their receipt is March 30, 2005.

A copy of the application will be available for public inspection at the Office of the Foreign-Trade Zones Board's Executive Secretary at the first address listed above.

Dated: February 11, 2005.
Dennis Puccinelli,
Executive Secretary.

[FR Doc. 05-3803 Filed 2-25-05; 8:45 am]

BILLING CODE 3510-DS-P